DEPARTMENT OF HEALTH AND HUMAN SERVICES

Health Resources and Services Administration

Council on Graduate Medical Education; Notice of Meeting

In accordance with section 10(a)(2) of the Federal Advisory Committee Act (Pub. L. 92-463), announcement is made of the following National Advisory body scheduled to meet during the month of April:

Name: Council on Graduate Medical Education (COGME).

Date and Time: April 10, 2002, 8:30 a.m.-5 p.m., April 11, 2002, 8 a.m.-12 p.m.

Place: Holiday Inn Select, Versailles 1, 8120 Wisconsin Avenue, Bethesda, MD 20814.

The meeting is open to the public.

Agenda: The agenda for April 10 will include: Welcome and opening comments from the Chair and Acting Executive Secretary of COGME. There will be a panel of speakers on the topic of “Views on the Adequacy of the Physician Supply” and a presentation on “Physician Workforce Models of the Bureau of Health Professions.” The afternoon agenda includes a panel on “Physician Preparedness to Meet Emerging Public Health Needs.”

The Council's three workgroups will convene. They are: Workgroup on Diversity, Workgroup on Graduate Medical Education Financing, and Workgroup on Workforce.

The agenda for April 11 will include reports from the three workgroup chairs. There will be a discussion of COGME's 2002 Summary Report, plans for future work, and new business.

Anyone requiring information regarding the meeting should contact Stanford M. Bastacky, D.M.D., M.H.S.A., Acting Executive Secretary, Council on Graduate Medical Education, Division of Medicine and Dentistry, Bureau of Health Professions, Room 9A-27, Parklawn Building, 5600 Fishers Lane, Rockville, Maryland 20857, Telephone (301) 443-6326.

Agenda items are subject to change as priorities dictate.

Dated: March 8, 2002.
Jane M. Harrison,
Director, Division of Policy Review and Coordination.

[FR Doc. 02-6225 Filed 3-14-02; 8:45 am]

BILLING CODE 4165-15-P